DEPARTMENT OF COMMERCE

National Oceanic and Atmospheric Administration

50 CFR Part 622

[I.D. 020501C]

Caribbean Fishery Management Council; Public Hearings

AGENCY: National Marine Fisheries Service (NMFS), National Oceanic and Atmospheric Administration (NOAA), Commerce.

ACTION: Notice of public hearing; request for comments.

SUMMARY: The Caribbean Fishery Management Council (Council) will hold a public hearing to obtain input from fishers and the general public on its proposed language for the definition of essential fish habitat (EFH) for the dolphin/wahoo fishery of the U.S. Caribbean. This definition will be part of the Fishery Management Plan for the Dolphin and Wahoo Fishery of the Atlantic, Caribbean, and Gulf of Mexico (FMP) that is currently under development.

DATES: The public hearing will be held on Tuesday, February 20, 2001, at 7 p.m.. Written comments from the public will be accepted through until February 20, 2001. See also SUPPLEMENTARY INFORMATION.

ADDRESSES: The public hearing will be held in St. Thomas, U.S.V.I., at the conference room of the Windward Passage Holiday Inn Hotel, located at Veterans Drive, Charlotte Amalie, St. Thomas, U.S.V.I. Written comments on the proposed EFH language should be submitted to the Caribbean Fishery Management Council, 268 Muñoz Rivera Avenue, Suite 1108, San Juan, Puerto Rico 00918-2577; telephone (787) 766-5926. Written copies of the proposed EFH definition language are available from the Council at the above address.

FOR FURTHER INFORMATION CONTACT: Miguel A. Rolón, Executive Director, Caribbean Fishery Management Council, 268 Muñoz Rivera Avenue, Suite 1108, San Juan, Puerto Rico 00918-2577; telephone (787) 766-5926.

SUPPLEMENTARY INFORMATION: The Council will hold a public hearing to obtain input from fishers and the general public on its proposed language for the definition of EFH for the dolphin/wahoo fishery of the U.S. Caribbean. The currently proposed language for EFH is the following: “Identify Essential Fish Habitat (EFH) for dolphin and wahoo in the U.S. Caribbean as any floating natural object in the water column, such as Sargassum or other floating algae or any other plant, plus ocean fronts where these objects accumulate. Included as EFH are those associated species that serve as prey or food for dolphin or wahoo. Man-made objects, such as fish attracting devices (FADs), refuse and lost nets, are excluded from this definition.” The Council has prepared a written statement of its proposed defintion of EFH for the dolphin/wahoo fishery of the U.S. Caribbean, which is available from the Council (see ADDRESSES) and will be available at the hearing.

The Council’s intention is to consider the public comment on this issue before adopting its final proposed definition of dolphin/wahoo EFH for inclusion in the proposed FMP. The FMP is under preparation jointly with the South Atlantic and Gulf of Mexico Fishery Management Councils. These three fishery management councils intend to hold a joint meeting on February 22, 2001, to discuss and adopt final measures for the final FMP prior to submitting it to NMFS for review, approval, and implementation under procedures of the Magnuson-Stevens Fishery Conservation and Management Act. The notice of this meeting was published at 50 66 FR 7628 on January 24, 2001.

Special Accommodations

This hearing is physically accessible to people with disabilities. Requests for sign language interpretation or other auxiliary aids should be directed to Mr. Miguel A. Rolón, Executive Director, Caribbean Fishery Management Council, 268 Muñoz Rivera Avenue, Suite 1108, San Juan, Puerto Rico, 00918-2577, telephone (787) 766-5926, at least 5 days prior to the meeting date.

Dated: February 8, 2001.
Bruce C. Morehead,
Acting Director, Office of Sustainable Fisheries, National Marine Fisheries Service.

[FR Doc. 01-3769 Filed 2-13-01; 8:45 am]

BILLING CODE 3510-22-S